ENVIRONMENTAL PROTECTION AGENCY

[EPA-HQ-OECA-2014-0091; FRL-9918-72-OEI]

Information Collection Request Submitted to OMB for Review and Approval; Comment Request; NESHAP for Engine Test Cells/Stands (Renewal)

AGENCY: Environmental Protection Agency (EPA).

ACTION: Notice.

SUMMARY: The Environmental Protection Agency (EPA) has submitted an information collection request (ICR), NESHAP for Engine Test Cells/Stands (Renewal) (EPA ICR No. 2066.06, OMB Control No. 2060-0483), to the Office of Management and Budget (OMB) for review and approval in accordance with the Paperwork Reduction Act (44 U.S.C. 3501 et seq). This is a proposed extension of the ICR, which is currently approved through January 31, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 5, 2014.

ADDRESSES: Submit your comments, referencing Docket ID Number EPA-HQ-OECA-2014-0091, to (1) EPA online using www.regulations.gov (our preferred method), or by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Respondents are owners or operators of engine test cells/stands located at major source facilities that are being used for testing internal combustion engines. An engine test cell/stand is any apparatus used for testing uninstalled stationary or uninstalled mobile (motive) engines. A plant site that is a major source of hazardous air pollutant (HAP) emissions emits or has the potential to emit any single HAP at a rate of 10 tons (9.07 megagrams) or more per year or any combination of HAPs at a rate of 25 tons (22.68 megagrams) or more per year. New or reconstructed sources must be in compliance with the requirements of the engine test cells/stands NESHAP upon startup.

Form numbers: None.

Respondents/affected entities: Owners or operators of engine test cells/stands located at major source facilities that are being used for testing internal combustion engines.

Respondent's obligation to respond: Mandatory (40 CFR part 63, Subpart PPPPP).

Estimated number of respondents: 18 (total).

Frequency of response: Initially, occasionally, and semiannually.

Total estimated burden: 1,719 hours (per year). Burden is defined at 5 CFR 1320.3(b).

Total estimated cost: $173,607 (per year), which includes $5,400 in annualized capital and/or operation & maintenance costs.

Changes in the estimates: There is a decrease of 1,324 hours in the total estimated respondent burden compared with the ICR currently approved by OMB. This decrease is due to the correction of two errors. First, in the previous ICR, it was assumed that performance evaluation reports would be submitted every five years. However, performance evaluations are only conducted initially, when new facilities first needed to demonstrate compliance with the standard. Since there will be no new or reconstructed sources over the next three years, performance evaluations are not required. Second, in the previous ICR, it was assumed that one out of the eighteen sources would write an annual deviation report. However, deviations are reported as part of the semiannual compliance status report; separate reports are not required. As a result of these two corrections, there is an overall decrease in the estimated burden cost as currently identified in the OMB Inventory of Approved Burdens.

Courtney Kerwin,
Acting Director, Collection Strategies Division.

[FR Doc. 2014-26240 Filed 11-4-14; 8:45 am]

BILLING CODE 6560-50-P